DEPARTMENT OF LABOR

Employment and Training Administration

Change of Address for the Office of Foreign Labor Certification National Office

AGENCY: Employment and Training Administration, Department of Labor.

ACTION: Notice.

SUMMARY: The Department of Labor (Department) is providing notice that the Office of Foreign Labor Certification (OFLC) National Office has relocated within Washington, DC effective November 23, 2015.

DATES: Effective Date: This notice is effective on November 23, 2015.

FOR FURTHER INFORMATION CONTACT: William W. Thompson, II, Acting Administrator, Office of Foreign Labor Certification, U.S. Department of Labor, 200 Constitution Avenue NW., Box 12-200, Washington, DC 20210-0001; Telephone: (202) 513-7350 (this is not a toll-free number).

SUPPLEMENTARY INFORMATION:

I. Background

The Immigration and Nationality Act (INA) assigns specific responsibilities to the U.S. Secretary of Labor for the administration of certain employment-based immigration programs that require a labor certification, a labor condition application, or a labor attestation. In the case of a labor certification, these statutory responsibilities include, determining that there are not able, willing, qualified, and available U.S. workers for a position and location for which certification is being requested, and that the employment of the foreign worker(s) will not have an adverse impact on similarly employed U.S. workers.

Employers seeking to hire foreign workers in the D-1, E-3, H-1B, H-1B1, H-2A, H-2B, or the permanent/“green card” visa programs must first apply to the Secretary of Labor to obtain a labor certification or for the approval of a labor condition application, or a labor attestation. The Secretary has delegated the responsibilities for the administration of these programs to the Employment and Training Administration's (ETA) Office of Foreign Labor Certification (OFLC). The OFLC National Office is responsible for overall program management, policy and operational coordination, as well as budget, performance, and all other administrative functions supporting the organization.

The purpose of this Notice is to inform the public that the OFLC National Office has relocated within Washington, DC and to provide the new physical and mailing address for the OFLC National Office.

II. OFLC National Office Address

Mailing Address: U.S. Department of Labor, Employment and Training Administration, Office of Foreign Labor Certification, 200 Constitution Avenue NW.; Box 12-200; Washington, DC 20210; Telephone: (202) 513-7350; Facsimile (202) 513-7395

Physical Address: U.S. Department of Labor, Employment and Training Administration, Office of Foreign Labor Certification, 375 3rd Street SW., Patriots Plaza II, Suite 12-200, Washington, DC 20024;. Telephone: (202) 513-7350; Facsimile (202) 513-7395. Note: Mail will not be delivered to this physical address. All mail of any kind must be sent to the mailing address.

These changes of address became effective November 23, 2015. Affected stakeholders should direct any mailed correspondence addressed to the OFLC National Office to the new mailing address beginning immediately. Any correspondence addressed to the old address has and will continue to be forwarded to the proper location by the Department of Labor's mailroom.

Portia Wu,
Assistant Secretary, Employment and Training Administration.

[FR Doc. 2015-32595 Filed 12-24-15; 8:45 am]

BILLING CODE 4510-FP-P